NATIONAL CREDIT UNION ADMINISTRATION

Agency Information Collection Activities: Submission to OMB For Review; Comment Request

AGENCY: National Credit Union Administration (NCUA).

ACTION: Request for comment.

SUMMARY: The NCUA is resubmitting the following information collection to the Office of Management and Budget (OMB) for review and clearance under the Paperwork Reduction Act of 1995 (Pub.L. 104-13, 44 U.S.C. Chapter 35). This information collection is published to obtain comments from the public.

DATES: Comments will be accepted until January 27, 2003.

ADDRESSES: Interested parties are invited to submit written comments to NCUA Clearance Officer or OMB Reviewer listed below:

Clearance Officer: Mr. Neil McNamara, (703) 518-6447, National Credit Union Administration, 1775 Duke Street, Alexandria, VA 22314-3428, Fax No. 703-518-6489, E-mail: mcnamara@ncua.gov.

OMB Reviewer: Mr. Joseph F. Lackey, (202) 395-4741, Office of Management and Budget, Room 10226, New Executive Office Building, Washington, DC 20503.

FOR FURTHER INFORMATION: Copies of the information collection requests, with applicable supporting documentation, may be obtained by calling the: NCUA Clearance Officer, Neil McNamara, (703) 518-6447.

It is also available on the following Web site: http://www.NCUA.gov.

SUPPLEMENTARY INFORMATION: Proposal for the following collection of information:

OMB Number: 3133-0057.

Form Number: N/A.

Type of Review: Reinstatement, with change, of a previously approved collection for which approval has expired.

Title: FCU Recordkeeping of Meeting Minutes and Other Documents.

Description: The Federal Credit Union Act and NCUA's Federal Credit Union Bylaws require each federal credit union to prepare and maintain minutes of its board and member meetings and copies of other important documents and election results. In addition, the board's secretary must inform the NCUA Board of any address change of a federal credit union.

Respondents: Federal credit unions.

Estimated No. of Respondents/Record keepers: 6,118.

Estimated Burden Hours Per Response: 4 hours.

Frequency of Response: Recordkeeping and reporting on occasion and annually.

Estimated Total Annual Burden Hours: 21,107.

Estimated Total Annual Cost: $0.

By the National Credit Union Administration Board on December 17, 2002.
Becky Baker,
Secretary of the Board.

[FR Doc. 02-32501 Filed 12-24-02; 8:45 am]

BILLING CODE 7535-01-P